DEPARTMENT OF COMMERCE

International Trade Administration

[A-570-918]

Steel Wire Garment Hangers From the People's Republic of China: Extension of Time Limit for Final Results of the Antidumping Duty Administrative Review

AGENCY: Import Administration, International Trade Administration, Department of Commerce

DATES: Effective Date: January 7, 2011.

FOR FURTHER INFORMATION CONTACT: Irene Gorelik or Josh Startup, AD/CVD Operations, Office 9, Import Administration, International Trade Administration, Department of Commerce, 14th Street and Constitution Avenue, NW., Washington, DC 20230; telephone: (202) 482-6905 or (202) 482-5260 respectively.

Background

On November 9, 2010, the Department of Commerce (“Department”) published the preliminary results of this administrative review. See Steel Wire Garment Hangers From the People's Republic of China: Preliminary Results and Preliminary Rescission, in Part, of the First Antidumping Duty Administrative Review, 75 FR 68758 (November 9, 2010) (“Preliminary Results”). The final results are currently due on March 9, 2011.

Extension of Time Limits for Final Results

Section 751(a)(3)(A) of the Tariff Act of 1930, as amended (“Act”), requires the Department to issue the final results in an administrative review of an antidumping duty order 120 days after the date on which the preliminary results are published. The Department may, however, extend the deadline for completion of the final results of an administrative review by an additional 60 days if it determines it is not practicable to complete the review within the foregoing time period. See section 751(a)(3)(A) of the Act and 19 CFR 351.213(h)(2).

As we stated in the Preliminary Results, the Department requires additional information from certain respondents in this review, thus no deadline was established therein for the submission of case briefs and rebuttal briefs. Following the Preliminary Results, the Department also issued a supplemental questionnaire to one of the respondents in this review. Because the Department requires additional time to review the respondent's supplemental questionnaire response, review interested parties' case and rebuttal briefs after setting a submission deadline, and conduct the public hearing that was requested by interested parties, we have determined that it is not practicable to complete this review within the 120 days specified under the Act. Therefore, we are extending the time for the completion of the final results of this review by 60 days to May 8, 2011.¹

¹ Department practice dictates that where a deadline falls on a weekend, the appropriate deadline is the next business day. See Notice of Clarification: Application of “Next Business Day” Rule for Administrative Determination Deadlines Pursuant to the Tariff Act of 1930, As Amended, 70 FR 24533 (May 10, 2005). Therefore, the final results of this review will be due on May 9, 2011.

This notice is published in accordance with sections 751(a)(1) and 777(i)(1) of the Act.

Dated: January 3, 2011.
Christian Marsh,
Deputy Assistant Secretary for Antidumping and Countervailing Duty Operations.

[FR Doc. 2011-143 Filed 1-6-11; 8:45 am]

BILLING CODE 3510-DS-P